DEPARTMENT OF JUSTICE

Antitrust Division

Notice Pursuant to the National Cooperative Research and Production Act of 1993—High Definition Metrology and Process-2 Micron Manufacturing Under ATP Award No. 70NANB7H7041

Notice is hereby given that, on December 13, 2007, pursuant to section 6(a) of the National Cooperative Research and Production Act of 1993, 15 U.S.C. 4301 et seq. (“the Act”), High Definition Metrology and Process-2 Micron Manufacturing under ATP Award No.70NANB7H7041 has filed written notifications simultaneously with the Attorney General and the Federal Trade Commission disclosing (1) the identities of the parties and (2) the nature and objectives of the venture. The notifications were filed for the purpose of invoking the Act's provisions limiting the recovery of antitrust plaintiffs to actual damages under specified circumstances.

Pursuant to section 6(b) of the Act, the identities of the parties to the venture are: Engineering and Manufacturing Alliance, Ann Arbor, MI; Coherix Inc., Ann Arbor, MI; Ford Motor Company, Dearborn, MI; and Superior Controls, Plymouth, MI. The general area of planned activity is to develop High Definition Metrology and related manufacturing technologies to realize a significant enhancement in both accuracy and precision in manufacturing, aiming for 2 micron variation in precision manufacturing.

The activities of this venture project will be partially funded by an award from the advanced Technology Program, National Institute of Standards and Technology, U.S. Department of Commerce.

Patricia A. Brink,
Deputy Director of Operations, Antitrust Division.

[FR Doc. E8-4394 Filed 3-7-08; 8:45 am]

BILLING CODE 4410-11-M